DEPARTMENT OF THE INTERIOR

National Park Service

[NPS-WASO-NRNHL-12172; 2200-3200-665]

National Register of Historic Places; Notification of Pending Nominations and Related Actions

Nominations for the following properties being considered for listing or related actions in the National Register were received by the National Park Service before January 19, 2013. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington, DC 20005; or by fax, 202-371-6447. Written or faxed comments should be submitted by March 14, 2013. Before including your address, phone number, email address, or other personal identifying information in your comment, you should be aware that your entire comment—including your personal identifying information—may be made publicly available at any time. While you can ask us in your comment to withhold your personal identifying information from public review, we cannot guarantee that we will be able to do so.

Dated: January 23, 2013.
J. Paul Loether,
Chief, National Register of Historic Places/National Historic Landmarks Program.

ILLINOIS

Cook County

Passionist Fathers Monastery, 5700 N. Harlem Dr., Chicago, 13000048

Storkline Furniture Corporation Factory, 4400-4418 W. 26th St., Chicago, 13000049

MASSACHUSETTS

Essex County

North Street Fire Station, 142 North St., Salem, 13000050

Swampscott Cemetery, 400 Essex St., Swampscott, 13000051

NEW YORK

Erie County

Burt, F.N., Company Factory, (Hydraulics/Larkin Neighborhood, Buffalo, Erie County, NY MPS), 500 Seneca St., Buffalo, 13000053

Rensselaer County

United Waste Manufacturing Company Building, 1 Jackson St., Troy, 13000054

Ulster County

Hasbrouck, Judge Jonathan, House, 20 Elwyn Ln., Woodstock, 13000056

Washington County

Old Stone House Library, The, 36 St. George St., Fort Ann, 13000055

OREGON

Deschutes County

Deedon, Ed and Genevieve, Homestead, 15600 Deedon Rd., La Pine, 13000057

Multnomah County

Halprin Open Space Sequence, SW Open Spaces & Pedestrian Malls from Lincoln to Clay Sts., Portland, 13000058

PENNSYLVANIA

Chester County

Coatesville Veterans Administration Hospital Historic District, (United States Second Generation Veterans Hospitals MPS) 1400 Blackhorse Hill Rd., Coatesville, 13000059

SOUTH CAROLINA

Florence County

Florence Downtown Historic District (Boundary Increase), 124-201 W. Evans St., Florence, 13000060

WISCONSIN

Ozaukee County

Little Meadowmere, 8414 W. County Line Rd., Mequon, 13000061

In the interest of preservation a request to shorten the comment period to three days has been made for the following resource:

MASSACHUSETTS

Worcester County

Dana Common Historic and Archaeological District, Gate 40 off Hardwick Rd., Petersham, 13000052

[FR Doc. 2013-04490 Filed 2-26-13; 8:45 am]

BILLING CODE 4312-51-P